ENVIRONMENTAL PROTECTION AGENCY

[EPA-HQ-OPPT-2006-0398; FRL-8109-6]

Release of Brochure on Current Best Practices to Prevent Asbestos Exposure Among Brake and Clutch Repair Workers

AGENCY: Environmental Protection Agency (EPA).

ACTION: Notice.

SUMMARY: EPA is announcing the release of the final brochure entitled, Current Best Practices for Preventing Asbestos Exposure Among Brake and Clutch Repair Workers. On August 24, 2006, EPA released a draft version of the brochure for a 60-day public comment period. After reviewing and, where appropriate, incorporating public comments on the draft brochure, EPA is now issuing the final brochure. The brochure is intended to provide information for automotive professionals and home mechanics on preventing exposure to brake and clutch dust that may contain asbestos fibers. A copy of the new brochure can be found at http://www.epa.gov/asbestos. This brochure replaces the existing 1986 document entitled, Guidance for Preventing Asbestos Disease Among Auto Mechanics (EPA-560-OPTS-86-002), commonly referred to as the ‘‘Gold Book.’’

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Robert Courtnage, National Program Chemicals Division (7404T), Office Pollution Prevention and Toxics, Environmental Protection Agency, 1200 Pennsylvania Ave., NW., Washington, DC 20460-0001; telephone number: (202) 566-1081; e-mail address: courtnage.robert@epa.gov or Tom Simons, National Program Chemicals Division (7404T), Office Pollution Prevention and Toxics, Environmental Protection Agency, 1200 Pennsylvania Ave., NW., Washington, DC 20460-0001; telephone number: (202) 566-0517; e-mail address: simons.tom@epa.gov.

SUPPLEMENTARY INFORMATION:

I. General Information

A. Does this Action Apply to Me?

You may be potentially affected by this action if you conduct automotive repair work. Individuals covered by this action may include those in the professional automotive repair industry, State and local government employees who perform brake and clutch work in States without Occupational Safety and Health Administration (OSHA)-approved State plans, and people performing do-it-yourself automotive repair. In addition, those involved in the manufacture and/or import of automotive brake and clutch products that may contain asbestos, as well as those involved in regulatory compliance, may be affected by the notice. This listing is not intended to be exhaustive, but rather provides a guide for readers regarding entities likely to be affected by this action. Other types of entities not listed in this unit also could be affected. To determine whether you or your business may be affected by this action, you should carefully examine the applicability provisions in 29 CFR 1910.1001, specifically paragraph (f)(3) and Appendix F, or 40 CFR part 763, subpart G. If you have any questions regarding the applicability of this action to a particular entity, consult either technical person listed under FOR FURTHER INFORMATION CONTACT.

B. How Can I Get Copies of this Document and Other Related Information?

1. Docket. EPA has established a docket for this action under docket identification (ID) number EPA-HQ-OPPT-2006-0398. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What Action is the Agency Taking?

EPA is announcing the release of the final brochure entitled, Current Best Practices for Preventing Asbestos Exposure Among Brake and Clutch Repair Workers. EPA released and published in the Federal Register of August 24, 2006 (71 FR 50060) (FRL-8086-6) a draft of the brochure for a 60-day public comment period. After reviewing and, where appropriate, incorporating public comments into the brochure, EPA is now issuing the final brochure. The brochure provides information for automotive professionals, including State and local government employees, and home mechanics on preventing exposure to brake and clutch dust that may contain asbestos fibers. The brochure summarizes work practices that can help to reduce or eliminate asbestos exposure, and identifies pertinent OSHA regulatory requirements for professional automotive mechanics, which are found at 29 CFR 1910.1001, specifically paragraph (f)(3) and Appendix F. Also discussed in this brochure is EPA’s Worker Protection Rule, found at 40 CFR part 763, subpart G, which contains requirements identical to the OSHA regulatory requirements and is mandatory for State and local government employees who perform brake and clutch work in States without OSHA-approved State plans. EPA believes that home mechanics, who are not subject to the OSHA or EPA standards, also may benefit from the information discussed in the brochure regarding the OSHA and EPA work practice standards and the additional advice provided on steps home mechanics can consider taking to prevent possible asbestos exposure when working with asbestos-containing friction products. A copy of the final brochure is available at http://www.epa.gov/asbestos. This brochure replaces the existing 1986 document entitled, Guidance for Preventing Asbestos Disease Among Auto Mechanics (EPA-560-OPTS-86-002), commonly referred to as the ‘‘Gold Book.’’

Asbestos is the common name given to a number of naturally occurring mineral fibers that are known for their high tensile strength, resistance to heat, and chemical stability. Because of these properties, asbestos has been used in a wide range of manufactured goods, including roofing shingles, ceiling and floor tiles, paper and cement products, textiles, and coatings and friction products such as automobile clutch, brake, and transmission parts. If products containing asbestos are disturbed, thin, lightweight asbestos fibers can be released into the air. Persons breathing the air may then inhale asbestos fibers. Continued exposure can increase the amount of fibers deposited in the lung. Fibers embedded in the lung tissue over time may result in lung diseases such as asbestosis, lung cancer, or mesothelioma. It can take from 10 to 40 years or more for symptoms of an asbestos-related condition to appear. Smoking increases the risk of developing illness from asbestos exposure.

During the 60-day comment period beginning on August 24, 2006, EPA received a number of comments on the draft brochure. After considering those comments, EPA has modified the brochure in the following ways:

• EPA has added language to the brochure that explains that asbestos-related disease can take 10 to 40 years or more for symptoms of an asbestos-related condition to appear.

• EPA has incorporated language referring to information resources that are available to consumers, including Material Safety Data Sheets (MSDS), labels, and information from the product manufacturer, to aid in determining whether brake or clutch components contain asbestos.

• EPA has incorporated information from OSHA’s recent Safety and Health Information Bulletin (SHIB) addressing brake and clutch repair, which notes the difficulty of distinguishing asbestos-containing brake and clutch components from non-asbestos brake and clutch components. A copy of the OSHA SHIB may be found at http://www.osha.gov/dts/shib/shib072606.html. EPA also has included a reference to the OSHA SHIB in the final brochure.

• EPA has added a reference to the spray can/solvent method of controlling the spread of brake and clutch dust, since it is an equivalent alternative asbestos control method approved by OSHA under 29 CFR 1910.1001, specifically paragraph (f)(3) and Appendix F.

• EPA included advice similar to OSHA’s advice (in the recent OSHA SHIB) that individuals who perform brake or clutch work change into clean clothes before going inside the home, that they wash soiled clothes separately, and that bystanders, as well as food and drink, be kept out of the work area to minimize exposure to others.

• EPA clarified that employers of professional automotive technicians must ensure that asbestos waste is disposed of properly pursuant to the OSHA regulations and recommended that home mechanics (who are not subject to OSHA regulations) double-bag asbestos waste and dispose of it following appropriate local regulations to minimize exposure.

EPA believes this final brochure provides the public and workers involved in brake and clutch repair work with a simple, easy-to-understand summary of the OSHA work practice standards, which are mandatory for certain professional automotive mechanics, and provides a discussion of the possible health effects associated with asbestos exposure that is sufficient. The brochure is not intended to provide comprehensive technical information regarding work practices, nor is it a comprehensive assessment of the possible health effects that might arise if one is exposed to asbestos in performing brake and clutch repair work. Finally, the brochure is not a substitute for any applicable legal requirements or regulations. Thus, the brochure does not impose legally binding requirements on any party, including EPA, States, or the regulated community. Interested professional mechanics engaged in commercial brake and clutch repair are encouraged to contact OSHA regarding compliance with the mandatory work practice standards highlighted in this brochure (http://www.osha.gov). Similarly, interested State and local government employees who perform brake and clutch work in States without OSHA-approved State plans are encouraged to contact EPA regarding compliance with EPA’s Worker Protection Rule. Finally, home mechanics may contact EPA with any specific questions not addressed in the brochure by visiting the EPA asbestos website at http://www.epa.gov/asbestos, or by calling the Toxic Substances Control Act Assistance Information Service (TAIS) at (202) 554-1404.

List of Subjects

Environmental protection, Asbestos, Automotive brake and clutch repair, Health.

Dated: March 23, 2007.
Wendy C. Hamnett,
Acting Assistant Administrator, Office of Prevention, Pesticides and Toxic Substances.

[FR Doc. E7-6057 Filed 3-30-07; 8:45 am]

BILLING CODE 6560-50-S